SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before October 27, 2022.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: Under its Surety Bond Guarantee Program (SBG Program), the U.S. Small Business Administration is authorized to guarantee a bid bond, payment bond, performance bond, as well as any required related ancillary bonds, on a contract issued to a small business contractor up to $6.5 million or up to $10 million if a Federal contracting officer certifies that SBA's guarantee is necessary. See Title IV of the Small Business Investment Act (SBIA), Part B, 15 U.S.C. 694a et seq. The SBG Program was created to encourage surety companies to issue bonds for small business contractors. The SBIA authorizes SBA to establish the terms and conditions for providing surety bond guarantee assistance and for paying claims resulting from any contractor defaults. This information collection consists of forms relating to the application process for an SBA-guaranteed bond and claims for the reimbursement of losses, including SBA Forms 990, 991, 994, 994B, 994F, and 994H. Except in the case of SBA Form 994H, SBA uses the information to evaluate whether the small business applicant meets the eligibility requirements for a surety bond, as well as the likelihood that the small business will successfully complete the bonded contract. The information collected for this purpose includes: demographics on all owners of the bond applicant, which has no bearing on the credit decision; the status of any current or past SBA financial assistance provided to the applicant; NAICS code for applicant's industry; financial statements; contract amount and nature of contract performance; and in the event performance has begun, evidence that applicant has paid all suppliers and subcontractors. With respect to SBA Form 994H, SBA uses the information collected to evaluate the surety's claim for reimbursement of losses. Surety is required to provide information regarding the date the small business defaulted on the contract; the reason for the default, the amount of any recoveries, and any additional information that would support the surety's claim for reimbursement.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0007.

Title: Surety Bond Guarantee Assistance.

Description of Respondents: Surety Companies.

Form Number: SBA Form 990, 991, 994B, 994H.

Total Estimated Annual Responses: 30,866.

Total Estimated Annual Hour Burden: 8,647.

Curtis Rich,
Agency Clearance Officer.

[FR Doc. 2022-20899 Filed 9-26-22; 8:45 am]

BILLING CODE 8026-09-P